DEPARTMENT OF DEFENSE

Department of the Army

Draft Environmental Impact Statement Addressing Heat and Electrical Upgrades at Fort Wainwright, Alaska

AGENCY: Department of the Army, DOD.

ACTION: Amended Notice of Availability.

SUMMARY: The Department of the Army (Army) is issuing this Amended Notice of Availability, updating the original notice published on October 9, 2020 (Federal Register, Vol. 85, No. 197, 64133) of the continuing availability of the Draft Environmental Impact Statement (EIS) as part of the environmental planning process to address heat and electrical upgrades at Fort Wainwright, Alaska. The comment period for the Draft EIS, originally scheduled to conclude on December 8, 2020, is being reopened for an additional 60 days to conclude on February 22, 2021.

The Army invites public comments on the Draft EIS during the comment period that began with the publication of the NOA in the Federal Register on October 9, 2020.

DATES: Comments must be received by February 22, 2021 to be considered in the preparation of the Final EIS.

ADDRESSES: Please submit written comments to Laura Sample, NEPA Program Manager at: Directorate of Public Works, ATTN: IMFW-PWE (L. Sample), 1046 Marks Road #4500, Fort Wainwright, AK 99703-4500, email: usarmy.wainwright.id-pacific.mbx.heu-eis@mail.mil, or through the project website: https://home.army.mil/alaska/index.php/fort-wainwright/NEPA/HEU-EIS.

FOR FURTHER INFORMATION CONTACT: Please contact Grant Sattler, Public Affairs Office, IMPC-FWA-PAO (Sattler), 1060 Gaffney Road #5900, Fort Wainwright, AK 99703-5900; telephone (907) 353-6701; email: alan.g.sattler.civ@mail.mil.

SUPPLEMENTARY INFORMATION: The current condition of Fort Wainwright's heat and power plant requires an upgrade to provide reliable heat and electrical infrastructure for the installation that resolves safety, resiliency, fiscal, and regulatory concerns. The Draft EIS evaluates reasonable alternatives, potential environmental impacts, and key issues of concern. A preferred alternative is not identified at this time. The comment period is being reopened in response to requests from commenters. Additional information can be found within the original notice published on October 9, 2020 (Federal Register, Vol. 85, No. 197, 64133). Federal, state, and local agencies; Alaska Natives; Native Americans; Native American organizations and tribes; private organizations; and the public are invited to continue being involved in this EIS process by providing written comments. An electronic copy of the Draft EIS is available online at: https://home.army.mil/alaska/index.php/fort-wainwright/NEPA/HEU-EIS. Copies of the Draft EIS will be available for review at the Noel Wien Library, 1215 Cowles Street, Fairbanks, AK 99701; the Post Library, Building 3700, Santiago Avenue, Fort Wainwright, AK 99703; and the Tri-Valley Community Library, 400 Suntrana Road, Healy, AK 99743, if these facilities are open. Copies of the Draft EIS are also available by submitting a request to: see ADDRESSES. Written comments must be sent by February 22, 2021. The Army will consider all comments received on the Draft EIS when preparing the Final EIS. As with the Draft EIS, the Army will announce the availability of the Final EIS.

James W. Satterwhite Jr.,
Alternate, Army Federal Register Liaison Officer.

[FR Doc. 2020-28322 Filed 12-22-20; 8:45 am]

BILLING CODE 5061-AP-P